DEPARTMENT OF THE INTERIOR

Bureau of Land Management

[CO-200-0777-XM-241A]

Notice of Meeting, Front Range Resource Advisory Council (Colorado)

AGENCY: Bureau of Land Management, Interior.

ACTION: Notice of public meeting.

SUMMARY: In accordance with the Federal Land Policy and Management Act (FLPMA) and the Federal Advisory Committee Act of 1972 (FACA), the U.S. Department of the Interior, Bureau of Land Management (BLM) Front Range Resource Advisory Council (RAC), will meet as indicated below.

DATES: The meeting will be held on July 16 and 17, 2003 at the Holiday Inn, 333 Sante Fe in Alamosa, Colorado and will begin at 9:30 a.m. on July 16. The public comment period will begin at approximately 9:45 a.m. and the meeting will end for the day at 4:30 p.m. On July 17 the meeting will reconvene at the same location at 8 a.m. for the field trip and will adjourn at 4 p.m.

SUPPLEMENTARY INFORMATION: The 15 member Council advises the Secretary of the Interior, through the Bureau of Land Management, on a variety of planning and management issues associated with public land management in the Front Range Center, Colorado. Planned agenda topics include:

July 16

Manager reports

Update on Blanca Wildlife Habitat Area

Overview of the Fuels Management and Travel Management Program.

July 17

Sites visited on the Field Trip will include Blanca Wetlands and the Rio Grande Corridor.

All meetings are open to the public. The public can make oral statements to the Council at 9:45 a.m. or written statements may be submitted for the Council's consideration. Depending on the number of persons wishing to comment and time available, the time for individual oral comments may be limited. Summary minutes for the Council Meeting will be maintained in the Front Range Center Office and will be available for public inspection and reproduction during regular business hours within thirty (30) days following the meeting.

FOR FURTHER INFORMATION CONTACT: Bureau of Land Management (BLM), Attn: Ken Smith, 3170 East Main Street, Canon City, Colorado 81212. Phone (719) 269-8500.

Dated: June 3, 2003.
Roy L. Masinton,
Front Range Center Manager.

[FR Doc. 03-14665 Filed 6-10-03; 8:45 am]

BILLING CODE 4310-JB-P